DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or obtain a copy of the information collection plans, call the SAMHSA Reports Clearance Officer at (240) 276-0361.

Comments are invited on (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Data Resource Toolkit Protocol for the Crisis Counseling Assistance and Training Program (OMB No. 0930-0270)—Revision

The SAMHSA Center for Mental Health Services (CMHS), as part of an interagency agreement with the Federal Emergency Management Agency (FEMA), provides a toolkit to be used for the purposes of collecting data on the Crisis Counseling Assistance and Training Program (CCP). The CCP provides supplemental funding to states, territories, and tribes for individual and community crisis intervention services after a presidentially declared major emergency.

The CCP has provided disaster behavioral health services to millions of disaster survivors since its inception, and, with more than 40 years of accumulated expertise, it has become an important model for federal response to a variety of catastrophic events. Recent CCP grants have been issued for nearly all 50 states, 5 territories, and at least 4 tribes. These grants have helped survivors of disasters such as Hurricanes Helene and Milton in 2024; the catastrophic Maui wildfire in 2023; and other wildfires, severe storms, flooding, earthquakes, and tornadoes in 2022 through 2025. CCPs address the short-term behavioral health needs of communities primarily through (a) outreach and public education, (b) individual and group counseling, and (c) referral. Outreach and public education serve primarily to make people aware of common disaster reactions and to engage people who may need further care. Crisis counseling assists survivors in coping with current stress and symptoms to return to pre-disaster functioning. Crisis counseling relies largely on “active listening,” ¹ and crisis counselors also provide education (especially about the nature of responses to disaster, adversity, and trauma) and help participants build coping skills. Crisis counselors ² typically work with a single participant once or a few times. Because crisis counseling is time-limited, referral is the third important function of CCPs. Counselors are expected to refer survivors to formal treatment if they have developed a mental and/or substance use disorder or are having difficulty in coping with their disaster reactions.

¹ Active listening requires the crisis counselor to engage fully with the survivor to understand what the survivor is communicating. The crisis counselor engages in activities such as asking questions, encouraging the survivor to respond candidly, reflecting on what the survivor says, and not judging the survivor's experiences or statements.

² CCP crisis counselors are paraprofessionals (e.g., outreach workers, community health workers, resource linkage coordinators) trained to work with individuals, families, and groups to provide short-term counseling and support. Crisis counselors also assess survivors for reactions requiring referrals, and they provide referrals as needed.

Data about services delivered and users of services are collected throughout the program period. The data are collected via the use of a toolkit that relies on standardized forms. At the program level, the data are entered quickly and easily into a cumulative database mainly through mobile data entry or paper forms to yield summary tables for quarterly and final reports for the program. Data entry allows for the data to be uploaded and linked to a national database that houses data collected across CCPs. The standardized data collection and database allow SAMHSA CMHS and FEMA to produce summary reports of services provided across all programs funded.

The components of the toolkit are listed and described below:

• Encounter logs. These forms document all services provided. The CCP requires crisis counselors to complete these logs. There are three types of encounter logs: (1) Individual/Family Crisis Counseling Services Encounter Log, (2) Group Encounter Log, and (3) Weekly Tally Sheet.

○ Individual/Family Crisis Counseling Services Encounter Log. Crisis counseling is defined as an interaction that lasts at least 15 minutes and involves participant-provided information. This form is completed by the crisis counselor for each participant, defined as the person or people who actively participated in the session (that is, by engaging in conversation), not someone who was merely present. One form may be completed for all family or household members who are actively engaged in the visit. Information collected includes demographics, service characteristics, risk factors, event reactions, and referral data.

○ Group Encounter Log. This form is used to collect data on either a group crisis counseling encounter or a group public education encounter. The crisis counselor indicates in a checkbox the class of activities (that is, counseling or education). Information collected includes service characteristics, group identity and characteristics, and group activities.

○ Weekly Tally Sheet. This form documents brief educational and supportive encounters not captured on any other form. Information collected includes service characteristics, daily tallies, and weekly totals for brief educational or supportive contacts, material distribution with no or minimal interaction, and social media activity.

• Assessment and referral tools (ARTs). These tools—one for adults and one for children and youth—can be administered at any time if the crisis counselor feels the participant is exhibiting distress or they would benefit from referral to other services. It is recommended that the ARTs be administered during encounters where more than four event reactions or certain risk categories are indicated. These tools will typically be used beginning 3 months after the disaster and will be completed by the crisis counselor.

• Participant Feedback Survey Form. These surveys are completed by and collected from a sample of participants, not every participant. Sampling is done on a biannual basis 6 months and 1 year after the disaster. Information collected includes satisfaction with services, perceived improvements in coping and functioning, types of exposure, and event reactions.

• Service Provider Feedback Form. These surveys are completed by and collected from the CCP service providers anonymously at 6 months and 1 year after the disaster. The survey is coded on several program-level as well as provider-level variables. However, the program survey data are only shared with program management if more than 10 individual provider staff members complete the survey.

There are no changes to the Weekly Tally Sheet since its last approval. Revisions to the Individual Encounter Log include updating the collection of adult age information to align with SAMHSA reporting convention, race and ethnicity information to align with updates to Office of Management and Budget (OMB) guidance, and sex information to align with White House guidance; removing the question about recent immigration; adding “stress management” to the example for “managing physical and emotional reactions”; adding a separate referral option for “FEMA-funded programs”; and changing “self-help groups” to “self-help or support groups.” For the Group Encounter Log, changes include updating the collection of race and ethnicity information to align with OMB guidance, adding a question about primary language spoken during the encounter, removing the question about recent immigration, and adding “stress management” to the example for “managing physical and emotional reactions.”

For the Adult and Child/Youth ARTs, edits were made to update the collection of adult age information to align with SAMHSA reporting convention, race and ethnicity information to align with updated OMB guidance, and sex information to align with White House guidance; frame demographic information collection as questions; add a graphic showing response options, change “self-help groups” to “self-help or support groups,” and include a separate referral option for “FEMA-funded programs”; and remove questions related to recent immigration and suicidal ideation. In addition, since the diagnostic criteria for posttraumatic stress disorder (PTSD) changed in the Diagnostic and Statistical Manual of Mental Disorders, Fifth Edition (DSM-5), the PTSD assessment tool within the Child/Youth ART was updated to align with the new PTSD criteria via the validated and abbreviated University of California at Los Angeles PTSD Reaction Index for DSM-5 (Reaction Index-5) tool. The Child/Youth ART was also updated to use the terms “caregiver” and “child or youth” throughout, move the statement that is read to the respondents, and add a question about whether the primary respondent was the caregiver or child or youth.

Changes to the collection of age, race, ethnicity, sex, and disaster-related experiences information were made to the Participant Feedback Survey and Service Provider Feedback Forms to align with encounter and ART forms. In addition, the Participant Feedback Survey Form was updated to more explicitly state that the form is voluntary and the respondent may skip questions; add “prefer not to answer” options; ask about referral to “FEMA-funded programs”; add “using/misusing other substances” to the examples for the “In the past month to what extent have you had trouble taking care of your health (e.g., eating poorly, not getting enough rest, smoking more, drinking more)?” question; add a sentence noting that if the respondent was not impacted by the disaster, they should skip the next set of questions; and update response options for the question about education and household income.

The Service Provider Feedback Form language was further changed to include “resources” when asking providers to rate “support, training, and resources provided to help you avoid compassion fatigue or to cope with the stress of listening to and helping others”; update the response options for questions about education and household income; and add a sentence noting that if the respondent was not impacted by the disaster, they should skip the next set of questions. The estimates of the annualized burden hours are provided in Table 1.

Table 1. Annualized Hour Burden Estimates
Data collection instrument | Estimated number of respondents | Responses per respondent | Total responses | Hours per response | Total hour burden
Individual/Family Crisis Counseling Services Encounter Log | ¹ 800 | ² 200 | 160,000 | 0.13 | 20,800
Group Encounter Log | ³ 400 | ³ 33 | 13,200 | 0.08 | 1,056
Weekly Tally Sheet | ¹ 800 | ⁴ 52 | 41,600 | 0.20 | 8,320
Adult Assessment and Referral Tool | ¹ 800 | 9 | ⁵ 7,200 | 0.17 | 1,224
Child/Youth Assessment and Referral Tool | ¹ 800 | 1 | ⁵ 800 | 0.08 | 64
Participant Feedback Survey Form | 4,000 | 1 | 4,000 | 0.30 | 1,200
Service Provider Feedback Form | ⁶ 400 | 1 | 400 | 0.30 | 120
Total | 8,000 |  | 227,200 |  | 32,784
¹ The value for estimated number of respondents (800) is based on a typical average of 40 crisis counselors (or 40 full-time equivalents [FTEs]) per grant with an approximate average of 20 grants per year (i.e., 40 × 20 = 800).
² On average, each FTE crisis counselor completes 200 forms over 1 year.
³ On average, a pair of crisis counselors completes 1 form per week (i.e., 2 counselors completing 1 form = 400 crisis counselors) for 33 weeks.
⁴ The average length of a CCP grant is 52 weeks.
⁵ On average, 5% of the Individual/Family Crisis Counseling Services Encounter Logs completed result in the use of the assessment and referral tools (i.e., 160,000 individual × 5% = 8,000, which equals the total Adult and Child/Youth Assessment and Referral Tool responses).
⁶ On average, 50% of service providers/crisis counselors may complete or use this tool.

Send comments to SAMHSA Reports Clearance Officer, 5600 Fisher Lane, Room 15E57A, Rockville, MD 20852 OR email a copy at samhsapra@samhsa.hhs.gov. Written comments should be received by October 6, 2025.

Krishna Palipudi,
Social Science Analyst.

[FR Doc. 2025-14877 Filed 8-5-25; 8:45 am]

BILLING CODE 4162-20-P